FEDERAL ELECTION COMMISSION

Sunshine Act; Meetings

* * * * *

Previously announced Date & Time: Tuesday, July 26, 2005, 10 a.m. meeting closed to the public. This meeting was rescheduled to Tuesday, July 19, 2005.

* * * * *

Date and Time Tuesday, July 19, 2005 at 10 a.m.

Place: 999 E Street, NW., Washington, DC.

Status: This meeting will be closed to the public.

Items to be Discussed: Compliance matters pursuant to 2 U.S.C. 437g.

Audits conducted pursuant to 2 U.S.C. 437g, section 438(b), and Title 26, U.S.C.

Matters concerning participation in civil actions or proceedings or arbitration.

Internal personnel rules and procedures or matters affecting a particular employee.

* * * * *

Date and Time: Thursday, July 21, 2005, at 10 a.m.

Place: 999 E. Street, NW., Washington, DC (Ninth Floor).

Status: This meeting will be open to the public.

Items to be discussed: Correction and Approval of Minutes.

Advisory Opinion 2005-07: Andy Mayberry and Andy Mayberry for Congress Committee.

Alternative Drafts for Final Rules and Explanation and Justification for Definitions of “Agent” for BCRA Regulations on Non-Federal Funds and Coordinated and Independent Expenditures (11 CFR 109.3 and 300.2(b)).

Routine Administrative Matters.

PERSON TO CONTACT FOR INFORMATION: Mr. Robert Biersack, Press Officer, Telephone: (202) 694-1220.

Mary W. Dove,
Secretary of the Commission.

[FR Doc. 05-14013 Filed 7-12-05; 3:37 pm]

BILLING CODE 6715-01-M